DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: OFAC's actions described in this notice were effective February 5, 2018.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel. 202-622-4855.

SUPPLEMENTARY INFORMATION:

Electronic Availability

The Specially Designated Nationals and Blocked Persons List and additional information concerning OFAC sanctions programs are available on OFAC's website (www.treasury.gov/ofac).

Notice of OFAC Action(s)

On February 5, 2018, OFAC determined that the property and interests in property subject to U.S. jurisdiction of the following persons are blocked under the relevant sanctions authority listed below.

Individuals:

1. MWISSA, Guidon Shimiray; DOB 13 Mar 1980; POB Kigoma, Walikale, North Kivu, Democratic Republic of the Congo; nationality Congo, Democratic Republic of the; Gender Male (individual) [DRCONGO].

Designated pursuant to Section 1(a)(ii)(E) of Executive Order 13413 of October 28, 2006 “Blocking Property of Certain Persons Contributing to the Conflict in the Democratic Republic of the Congo” as amended by Executive Order 13671 of July 8, 2014 “Taking Additional Steps to Address the National Emergency With Respect to the Conflict in the Democratic Republic of the Congo” (“Order”), for being a leader of an entity, including armed groups, that has, or whose members have, been responsible for or complicit in, or engaged in, directly or indirectly, actions or policies that threaten the peace, security, or stability of the Democratic Republic of the Congo (DRC).

2. NZABAMWITA, Lucien (a.k.a. ANDRE, Karume; a.k.a. KALUME, Andre; a.k.a. KARUME, Andrew; a.k.a. NZABANITA, Lucien); DOB 15 Sep 1966; POB Kinyami, Byumba Province, Rwanda; nationality Rwanda; Gender Male (individual) [DRCONGO].

Designated pursuant to Section 1(a)(ii)(G) of the Order, for having acted or purported to act for or on behalf of, directly or indirectly, the Forces Démocratiques de Libération du Rwanda, an entity designated pursuant to the Order.

3. MUNDOS, Muhindo Akili (a.k.a. MUNDOS, Charles Muhindo Akili), Mambasa, Congo, Democratic Republic of the; DOB 10 Nov 1972; POB Democratic Republic of the Congo; nationality Congo, Democratic Republic of the; Gender Male; Brigadier General (individual) [DRCONGO].

Designated pursuant to Section 1(a)(ii)(C) of the Order, for being responsible for or complicit in, or engaging in, directly or indirectly, actions or policies that threaten the peace, security, or stability of the DRC, and the targeting of women, children, or any civilians through the commission of acts of violence (including killing, maiming, torture, or rape or other sexual violence), abduction, forced displacement, or attack on schools, hospitals, religious sites, or locations where civilians are seeking refuge, or through conduct that would constitute a serious abuse or violation of international humanitarian law.

Also designated pursuant to Section 1(a)(ii)(F) of the Order, for materially assisting, sponsoring, or providing financial, material, logistical, or technological support for, or goods or services in support of, the Allied Democratic Forces, a person whose property and interests in property are blocked pursuant to the Order.

4. MUTANGA, Gedeon Kyungu (a.k.a. GEDEON, Kyungu Mutanga; a.k.a. MTANGA, Gedeon; a.k.a. MUTANGA WA BAFUNKWA KANONGA, Gedeon Kyungu; a.k.a. MUTANGA, Gideon Kyungu); DOB 1972; alt. DOB 1974; POB Manono territory, Katanga Province (now Tanganyika Province), Democratic Republic of the Congo; nationality Congo, Democratic Republic of the; Gender Male (individual) [DRCONGO].

Designated pursuant to Section 1(a)(ii)(E) of the Order, for being a leader of an entity, including armed groups, that has, or whose members have, been responsible for or complicit in, or engaged in, directly or indirectly, actions or policies that threaten the peace, security, or stability of the DRC.

Dated: February 19, 2020.
Andrea M. Gacki,
Director, Office of Foreign Assets Control.

[FR Doc. 2020-03696 Filed 2-24-20; 8:45 am]

BILLING CODE 4810-AL-P